DEPARTMENT OF THE INTERIOR

National Park Service

National Register of Historic Places; Notification of Pending Nominations

Nominations for the following properties being considered for listing in the National Register were received by the National Park Service before February 22, 2003. Pursuant to section 60.13 of 36 CFR Part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington, DC 20005; or by fax, 202-343-1836. Written or faxed comments should be submitted by March 24, 2003.

Beth Boland,
Acting Keeper of the National Register of Historic Places.

CONNECTICUT

Hartford County

Colt Industrial District (Boundary Increase), 34 Sequassen St., 1-3 and 17 Van Dyke Ave., and 47, 49, 50 and 53 Vredendale Ave., Hartford, 03000171

DELAWARE

New Castle County

Mount Cuba, 3120 Barley Mill Rd., Greenville, 03000172

GEORGIA

Baldwin County

Fort—Hammond—Willis House, 1760 Irwinton rd., Milledgeville, 03000173

MICHIGAN

Livingston County

Fishbeck, Jacob, Farmstead, 5151 Crooked Lake Rd., Genoa Township, 03000178

Washtenaw County

Devereaux, Nathan B., Octagon House, 66425 Eight Mile Rd., Northfield, 03000177

Wayne County

Cherry Hill Historic District, Cherry Hill and Ridge Rds., Canton Township, 03000176

Clyde, Thomas and Isabella Moore, House, 50325 Cherry Hill Rd., Canton Township, 03000175

Truesdell, Ephraim and Emma Woodworth, House, (Canton Township MPS) 1224 Haggerty Rd., Canton, 03000174

MISSOURI

Crawford County

Wagon Wheel Motel, Cafe and Station, 901-905 e. Washington St., Cuba, 03000183

Greene County

Rock Fountain Court Historic District, 2400 W. College St., Springfield, 03000179

Jasper County 66 Drive-In,

17231 Old 66 Blvd., Carthage, 03000182

St. Louis County

Big Chief Restaurant, 17352 Old Manchester Rd., Wildwood, 03000181

Red Cedar Inn, 1047 East Osage, Pacific, 03000180

RHODE ISLAND

Providence County

Smith—Ballou House, 641 Harris Avenue, Woonsocket, 03000184

TEXAS

Dallas County

Texas Theatre, 231 W. Jefferson Blvd., Dallas, 03000187

Harris County

Texas Company Building, 1111 Rusk, Houston, 03000185

Travis County

Fogel, Seymour and Barbara, House, 2411 Kinney Rd., Austin, 03000186

VIRGINIA

Buena Vista Independent City

Buena Vista Colored School, 30th St. and Aspen Ave., Buena Vista (Independent City), 03000191

Loudoun County

Smith, William, House, 38678 Piggott Bottom rd., Hamilton, 03000189

Richmond Independent City National Theater, 700-710 E. Broad St., Richmond (Independent City), 03000188

Pine Camp Tuberculosis Hospital, 4901 Old Brook Rd., Richmond (Independent City), 03000190

[FR Doc. 03-5503 Filed 3-6-03; 8:45 am]

BILLING CODE 4310-70-P